INTERNATIONAL TRADE COMMISSION

[USITC SE-05-029]

Government in the Sunshine Act Meeting Notice

Agency Holding the Meeting: United States International Trade Commission.

Time and Date: September 20 , 2005 at 11 a.m.

Place: Room 101, 500 E Street SW., Washington, DC 20436, Telephone: (202) 205-2000.

Status: Open to the public.

Matters To Be Considered: 1. Agenda for future meetings: None.

2. Minutes.

3. Ratification List.

4. Inv. No. 731-TA-459 (Second Review) (Polyethylene Terephthalate Film from Korea)—briefing and vote. (The Commission is currently scheduled to transmit its determination and Commissioners' opinions to the Secretary of Commerce on or before September 29, 2005.)

5. Inv. Nos. 731-TA-376, 563, and 564 (Second Review) (Stainless Steel Butt-Weld Pipe Fittings from Japan, Korea, and Taiwan)—briefing and vote. (The Commission is currently scheduled tor transmit its determination and Commissioners' opinions to the Secretary of Commerce on or before September 29, 2005.)

6. Outstanding action jackets: None.

In accordance with Commission policy, subject matter listed above, not disposed of at the scheduled meeting, may be carried over to the agenda of the following meeting.

By order of the Commission.
Issued: September 12, 2005.
Marilyn R. Abbott,
Secretary to the Commission.

[FR Doc. 05-18439 Filed 9-13-05; 12:47 pm]

BILLING CODE 7020-02-P